DEPARTMENT OF ENERGY

Federal Energy Regulatory Commission

[Docket No. IC21-34-000]

Commission Information Collection Activities (FERC-500 and FERC-505); Comment Request; Extension

AGENCY: Federal Energy Regulatory Commission, DOE.

ACTION: Notice of information collection and request for comments.

SUMMARY: In compliance with the requirements of the Paperwork Reduction Act of 1995, the Federal Energy Regulatory Commission (Commission or FERC) is soliciting public comment on two currently approved information collections: FERC-500, Application for License/Relicense for Water Projects with More than 10 Megawatt (MW) Capacity; and FERC-505, Application for Small Hydropower Projects and Conduit Facilities including License/Relicense, Exemption, and Qualifying Conduit Facility Determinations, which will be submitted to the Office of Management and Budget (OMB) for a review of the information collection requirements.

DATES: Comments on the collections of information are due February 11, 2022.

ADDRESSES: Send written comments on FERC-500 and FERC-505 to OMB through www.reginfo.gov/public/do/PRAMain, Attention: Federal Energy Regulatory Commission Desk Officer. Please identify the OMB control numbers 1902-0058 (FERC-500) and 1902-0115 (FERC-505) in the subject line. Your comments should be sent within 30 days of publication of this notice in the Federal Register.

Please submit copies of your comments (identified by Docket No. IC21-34-000) to the Commission as noted below. Electronic filing through http://www.ferc.gov, is preferred.

• Electronic Filing: Documents must be filed in acceptable native applications and print-to-PDF, but not in scanned or picture format.

• For those unable to file electronically, comments may be filed by USPS mail or by hand (including courier) delivery.

○ Mail via U.S. Postal Service Only, Addressed to: Federal Energy Regulatory Commission, Secretary of the Commission, 888 First Street NE, Washington, DC 20426.

○ Hand (Including Courier) Delivery to: Federal Energy Regulatory Commission, 12225 Wilkins Avenue, Rockville, MD 20852.

Instructions: OMB submissions must be formatted and filed in accordance with submission guidelines at www.reginfo.gov/public/do/PRAMain; Using the search function under the “Currently Under Review field,” select Federal Energy Regulatory Commission; click “submit” and select “comment” to the right of the subject collections.

FERC submissions must be formatted and filed in accordance with submission guidelines at: http://www.ferc.gov. For user assistance, contact FERC Online Support by email at ferconlinesupport@ferc.gov, or by phone at: (866) 208-3676 (toll-free).

Docket: Users interested in receiving automatic notification of activity in this docket or in viewing/downloading comments and issuances in this docket may do so at http://www.ferc.gov.

FOR FURTHER INFORMATION CONTACT: Ellen Brown may be reached by email at DataClearance@FERC.gov and telephone at (202) 502-8663.

SUPPLEMENTARY INFORMATION:

Titles: FERC-500 (Application for License/Relicense for Water Projects with More than 10 Megawatt (MW) Capacity) and FERC-505 (Application for Small Hydropower Projects and Conduit Facilities including License/Relicense, Exemption, and Qualifying Conduit Facility Determination).

OMB Control Nos.: 1902-0058 (FERC-500) and 1902-0115 (FERC-505).

Type of Request: Extension of currently approved information collections.

Abstract: Part I of the Federal Power Act (FPA) ¹ authorizes the Commission to grant hydropower licenses and exemptions to citizens of the United States, or to any corporation organized under the laws of United States or any State thereof, or to any State or municipality. Holders of such licenses and exemptions construct, operate, and maintain dams, water conduits, reservoirs, power houses, transmission lines, or other project works necessary or convenient for the development and improvement of navigation and for the development, transmission, and utilization of power across, along, from, or in any of the streams or other bodies of water over which Congress has jurisdiction. This jurisdiction stems from Congressional authority to regulate commerce with foreign nations and among the several States, or upon any part of the public lands and reservations of the United States.

¹ 16 U.S.C. 791a-823g.

FERC-500 and FERC-505 comprise applications and other information collection activities implemented under numerous regulations. Some of the regulations are relevant to both FERC-500 and FERC-505, and others are relevant only to FERC-500 or FERC-505. Effective October 4, 2021,² information collection activities within FERC-500 are for projects with an installed capacity of more than 10 MW. Information collection activities within FERC-505 are for other smaller projects.

² Before October 4, 2021, FERC-500 applied only to projects with an installed capacity of more than 5 MW. On August 5, 2021, the Commission published a final rule that affected the paperwork burdens of FERC-500 by changing the regulatory threshold for certain licensing requirements from 5 MW to 10 MW. As a result, the regulatory threshold for FERC-500 is now projects with an installed capacity of more than 10 MW. See Final Rule, Docket RM20-21-000, 86 FR 42710 (Aug. 5, 2021).

As required by OMB regulations at 5 CFR 1320.8(d), the Commission provided a 60-day notice of its renewal request in the Federal Register on October 28, 2021 (86 FR 59704). The public-comment period expired on December 27, 2021. No comments were received.

The following table lists information collection activities pertaining to applications and notices of intent. The table is organized as pairs of regulations that address, respectively, applicability and required contents of each activity.

Table 1—Regulations and Information Collection Activities: Applications and Notices of Intent
Title | 18 CFR cites | FERC-500 | FERC-505
Application for License for Major ³ Unconstructed Project and Major Modified Project | 4.40 and 4.41 | Yes | Yes
Application for License for Major Project—Existing Dam | 4.50 and 4.51 | Yes | Yes
Application for License for Minor ⁴ Water Power Projects and Major Water Power Projects 10 Megawatts or Less | 4.60 and 4.61 | No | Yes
Application for License for Transmission Line Only | 4.70 and 4.71 | Yes | Yes
Application for a Preliminary Permit | 4.80 and 4.81 | Yes | Yes
Application for Exemption of Small Conduit Hydroelectric Facilities | 4.90 and 4.92 | No | Yes
Application for Case-Specific Exemption of Small Hydroelectric Power Projects of 10 Megawatts or Less | 4.101 and 4.107 | No | Yes
Application for Amendment of License | 4.200 and 4.201 | Yes | Yes
Notice of Intent to Construct Qualifying Conduit Hydropower Facilities | 4.400 and 4.401 | No | Yes
Application Under the Integrated Licensing Process | 5.1 and 5.18 | Yes | Yes
Application for Transfer of License | 9.1 and 9.2 | Yes | Yes

Each of the “contents” regulations listed above requires information that assists the Commission in identifying the respondent and the type of proposed project. In addition, certain types of applications must include all ⁵ or some ⁶ of the following exhibits:

³ As defined at 18 CFR 4.30(b)(14) through 4.30(b)(16), a “major” project has a total installed generating capacity of more than 1.5 MW.

⁴ As defined at 18 CFR 4.30(b)(17), a “minor” project has a total installed generating capacity of 1.5 MW or less.

⁵ The following regulations require Exhibits A through G: 18 CFR 4.41, 4.51, 4.61, 4.71, 4.201(b)(1) and 4.201(b)(5).

⁶ The following regulations do not require Exhibits B, C, or D: 18 CFR 4.92 and 4.107. The regulations at 18 CFR 4.201(b)(2) through (b)(4) do not require Exhibits A, B, C, or D. The regulations at 18 CFR 5.18 do not require Exhibit E.

• Exhibit A is a description of the project.

• Exhibit B is a statement of project operation and resource utilization.

• Exhibit C is a proposed construction schedule for the project.

• Exhibit D is a statement of project costs and financing.

• Exhibit E is an environmental report.

• Exhibit F consists of general design drawings of the principal project works described under Exhibit A and supporting information used as the basis of design.

• Exhibit G is a map of the project.

No exhibits are required in a Notice of Intent to Construct Qualifying Conduit Hydropower Facilities under 18 CFR 4.401. However, the Notice of Intent must include:

• Statements that the proposed project will use the hydroelectric potential of a non-federally owned conduit and that the proposed facility has not been licensed or exempted from the licensing requirements and Part I of the FPA;

• A description of the proposed facility;

• Project drawings;

• If applicable, the preliminary permit number for the proposed facility; and

• Verification in accordance with 18 CFR 4.401(g).

The following table lists information collection activities pertaining to matters other than applications and notices of intent:

Table 2—Other Regulations and Information Collection Activities
Title or description | 18 CFR cite(s) | FERC-500 | FERC-505
State and federal comprehensive plans | 2.19 | Yes | Yes
Acceptance for filing or rejection; information to be made available to the public; requests for additional studies | 4.32 | Yes | Yes
Amendment of application; date of acceptance | 4.35 | Yes | Yes
Competing applications, deadlines for filing, notices of intent, and comparisons of plans of development | 4.36 | Yes | Yes
Consultation requirements | 4.38 | Yes | Yes
Action on exemption applications | 4.93 | No | Yes
Integrated licensing process | 5.2, 5.3, 5.4, 5.5, 5.6, 5.11, 5.13, 5.15, 5.16, 5.17, and 5.20, 5.21, 5.23, and 5.27 | Yes | Yes
Expedited licensing process for qualifying non-federal hydropower projects at existing nonpowered dams and for closed-loop pumped storage projects | 7.1, 7.2, 7.3, 7.4,.7.5, 7.6, 7.7, 7.8, and 7.9 | Yes | Yes
Publication of license conditions relating to recreation and posting of project lands as to recreational use and availability of information | 8.1 and 8.2 | Yes | Yes
Lease of Project Property | 9.10 | Yes | Yes
Procedures relating to takeover and relicensing of licensed projects | 16,1, 16.4, 16.6, 16.7, 16.8, 16.9, 16.10, 16.11, 16.12, 16.14, 16.19, 16.20, and 16.26 | Yes | Yes
Annual conveyance report | 141.15 | Yes | No
General requirements for qualifying cogeneration and small power production facilities | 292.203 | No | Yes
Special requirements for hydroelectric small power production facilities located at a new dam or diversion | 292.208 | No | Yes

Types of Respondents: Entities requesting Licenses, Relicenses, Exemptions, or Qualifying Conduit Facility Determinations, and certain entities in receipt of Commission Licenses and Exemptions.

Estimate of Annual Burden: The burdens are itemized in detail in the following table:

Table 3—Estimated Annual Burdens
A. | B. | C. | D.
Type of response | Number of respondents and responses ⁷ | Average burden & cost ⁸ per response | Average annual burden hours & total annual cost (column B × column C)
FERC-500, Application for License/Relicense for Water Projects with Greater than 10 MW Capacity ⁹ | 9 | 35,602.55 hrs.; $3,097,421.85 | 320,422.95 hrs.; $27,876,796.65.
FERC-500, Request for Authorization to Use Expedited Licensing Process | 5 | 40 hrs.; $3,480 | 200 hrs.; $17,400.
FERC-500, Annual Conveyance Reports | 41 | 3 hrs.; $261 | 123 hrs.; $10,701.
FERC-500, Recreation Posting | 432 | 0.5 hr.; $43.50 | 216 hrs.; $18,792.
Subtotals for FERC-500 | 487 |  | 320,961.95 hrs.; $27,923,689.65.
FERC-505, for Small Hydropower Projects and Conduit Facilities including License/Relicense, Exemption, and Qualifying Conduit Facility Determinations | 32 | 756.59 hrs.; $65,823.33 | 24,210.88 hrs.; $2,106,346.56.
FERC-505, Request for Authorization to Use Expedited Licensing Process | 5 | 40 hrs.; $3,480 | 200 hrs.; $17,400.
FERC-505, Recreation Posting | 287 | 0.5 hr.; $43.50 | 143.5 hrs.; $12,484.50.
Sub-Totals for FERC-505 | 324 |  | 24,554.38 hrs.; $2,136,231.06.
Totals | 811 |  | 345,516.33 hrs.; $30,059,920.71.

Comments are invited on: (1) Whether the collections of information are necessary for the proper performance of the functions of the Commission, including whether the information will have practical utility; (2) the accuracy of the agency's estimates of the burden and cost of the collections of information, including the validity of the methodology and assumptions used; (3) ways to enhance the quality, utility and clarity of the information collections; and (4) ways to minimize the burden of the collections of information on those who are to respond, including the use of automated collection techniques or other forms of information technology.

⁷ There is one response per respondent for each activity in this information collection.

⁸ Commission staff estimates that the average industry hourly cost for this information collection is approximated by the current FERC 2021 average hourly costs for wages and benefits, i.e., $87.00/hour.

⁹ The previously reported 33 responses associated with Comprehensive Plans were incorrect and not consistent in how we have approached the number of respondents for this Information Collection. As a result, the total number of hours associated with the Comprehensive Plans requirement was moved to the total number of hours associated with the application process. The Commission does not break down pieces of this process (as it is all considered one application) and so this edit was made for consistency across the information collection.

Dated: January 5, 2022.
Kimberly D. Bose,
Secretary.

[FR Doc. 2022-00354 Filed 1-11-22; 8:45 am]

BILLING CODE 6717-01-P